DEPARTMENT OF HOMELAND SECURITY

Federal Emergency Management Agency

[Docket ID: FEMA-2014-0034; OMB No. 1660-0040]

Agency Information Collection Activities: Submission for OMB Review; Comment Request; Standard Flood Hazard Determination Form

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before April 6, 2015.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 500 C Street SW., Washington, DC 20472-3100, facsimile number (202) 212-4701, or email address FEMA-Information-Collections-Management@fema.dhs.gov.

SUPPLEMENTARY INFORMATION: A Correction 60-day Federal Register Notice inviting public comments was published on February 9, 2015 (80 FR 7004), correcting the docket ID in the ADDRESSES section and extending the deadline.

Collection of Information

Title: Standard Flood Hazard Determination Form.

Type of information collection: Revision of a currently approved information collection.

OMB Number: 1660-0040.

Form Titles and Numbers: FEMA Form 086-0-32, Standard Flood Hazard Determination Form (SFHDF). FEMA received four comments on the form. In response to the comments, FEMA changed FEMA Form 086-0-32 to (1) return it to a single page, (2) clarify the language of the form and the information pages, (3) offer users a wider variety of suggested information so the form will be simpler to use then in the past; (4) indicate that a preparer may add additional comments/pages/data as needed; and (5) to direct the user to the applicable servicer, lender or regulatory entity as applicable if they need guidance regarding their use of the form. A few of the comments asked for changes to the form outside FEMA's authority.

Abstract: FEMA Form 086-0-32, SFHDF is used by regulated lending institutions, federal agency lenders, related lenders/regulators, and the Government. Federally regulated lending institutions complete this form when making, increasing, extending, renewing or purchasing each loan for the purpose is of determining whether flood insurance is required and available. The form may also be used by property owner, insurance agents, realtors, community officials for flood insurance related documentation.

Affected Public: Business or other for-profit.

Estimated Number of Respondents: 46,456,460.

Estimated Total Annual Burden Hours: 15,330,632 hours.

Estimated Cost: The estimated annual cost to respondents for the hour burden is $951,265,715.60. There are no annual costs to respondents' operations and maintenance costs for technical services. There are no annual start-up or capital costs. The cost to the Federal Government is $5,409.18. The corrected cost reflects an increase of $1,100.18 from the 60-day Federal Register Notice because of a clerical error in reporting the correct salary for the federal employee.

Dated: February 27, 2015.
Terry Cochran,
Acting Director, Records Management Division, U.S. Department of Homeland Security, Federal Emergency Management Agency, Mission Support.

[FR Doc. 2015-05074 Filed 3-4-15; 8:45 am]

BILLING CODE 9110-11-P